DEPARTMENT OF AGRICULTURE

Submission for OMB Review; Comment Request

December 23, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20050-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: On-line Registration for FSA-sponsored Events and Conferences.

OMB Control Number: 0560-0226.

Summary of Collection: The Farm Service Agency (FSA) is seeking a blanket approval for all On-Line Registrations for FSA-sponsored events and conferences. The respondents will need to submit the information on-line to pay and to make reservation prior to attending any conferences and events. The respondents that do not have access to the Internet can mail or fax the information.

Need and Use of the Information: FSA will collect the name, organization, organizations address, country, phone number, State, payment options and special accommodations from respondents. FSA will use the information to get payment, confirm and make hotel and other necessary arrangement for the respondents.

Description of Respondents: Individuals or households; Farms; Business or other for-profit; Federal government, Not-for-profit institutions; State, local or tribal government.

Number of Respondents: 900.

Frequency of Responses: Reporting: On occasion.

Total Burden Hours: 225.

Farm Service Agency

Title: USDA Minority Farm Register.

OMB Control Number: 0560-NEW.

Summary of Collection: In order to conduct outreach to socially disadvantaged people, the Farm Service Agency (FSA) must first, identify the people who are to be the recipients of and who desires the outreach services; and second, obtain their permission under the Privacy Act to release information to the organizations that will be conducting the outreach. The purpose of this data collection is to establish a voluntary register of minority farmers, landowners, tenants and others with an agricultural interest. The Register will provide a name and address file of those interested in outreach efforts. The authority for the collection of this information can be found at 7 U.S.C. 2279.

Need and Use of the Information: FSA will collect the name, address, phone number, social security number, farm location, race, ethnicity and gender from the Minority Farm Register Permission Form, FSA-1045. FSA will manage the register and will release names, addresses and phone numbers of individuals to approved outreach organizations requesting lists of individuals with particular racial and ethnic characteristics.

Description of Respondents: Individuals or households; Farms; Not-for-profit institutions; State, local or tribal government.

Number of Respondents: 55,500.

Frequency of Responses: Reporting: Other (once).

Total Burden Hours: 34,225.

Food and Nutrition Service

Title: Performance Reporting System, Management Evaluation.

OMB Control Number: 0584-0010.

Summary of Collection: The purpose of the Performance Reporting System is to ensure that each State agency and project area is operating the Food Stamp Program in accordance with the Act, regulations, and the State agency's Plan of Operation. Section 11 of the Food Stamp Act of 1977, amended, requires State agencies to maintain necessary records to ascertain that the Food Stamp Program is operating in compliance with the Act and regulations and must make these records available to the Food and Nutrition Service (FNS) for inspection.

Need and Use of the Information: FNS will use the information to evaluate state agency operations and to collect information that is necessary to develop solutions to improve the State's administration of Program policy and procedures. Each State agency is required to submit one review schedule every one, two, or three years, depending on the project areas make-up of the state.

Description of Respondents: State, local, or tribal government.

Number of Respondents: 54.

Frequency of Responses: Recordkeeping; Reporting: Annually.

Total Burden Hours: 492,356.

Food and Nutrition Service

Title: 7 CFR Part 226 Child and Adult Care Food Program.

OMB Control Number: 0584-0055.

Summary of Collection: Section 17 of the National School Lunch Act, as amended (42 U.S.C. 1766), authorizes the Secretary of Agriculture to provide cash reimbursement and commodity assistance, on a per meal basis, for food service to children in nonresidential child care centers and family day care homes, and to eligible adults in nonresidential adult day care centers. The Food and Nutrition Service (FNS) has established application, monitoring, recordkeeping, and reporting requirements to manage the Program effectively, and ensure that the legislative intent of this mandate is responsibly implemented. The information collected is necessary to enable institutions wishing to participate in the Child and Adult Care Food Program (CACFP) to submit applications to the administering agencies, execute agreements with those agencies, and claim the reimbursement to which they are entitled by law.

Need and Use of the Information: FNS and State agencies administering the Program will use the collected information to determine eligibility of institutions to participate in the CACFP, ensure acceptance of responsibility in managing an effective food service, implement systems for appropriating Program funds, and ensure Compliance with all statutory and regulatory requirements.

Description of Respondents: State, local, or tribal government; Individuals or households; Not-for-profit institutions.

Number of Respondents: 2,930,467.

Frequency of Responses: Recordkeeping; Reporting: On occasion; Biennially; Semi-annually; Monthly and Annually.

Total Burden Hours: 5,778,439.

Title: Application for the Senior Community Service Employment Program.

OMB Control Number: 0596-0099.

Summary of Collection: The Senior Community Service Employment Program (SCSEP) is administered by Title V of the Older Americans Act of 1965, as amended. The Secretary of Labor administers this program in order to foster and promote useful part-time opportunities in community services activities for unemployed low-income persons who are age 55 or older. The Forest Service (FS) participates as one of 13 national sponsors under a grant agreement from the Department of Labor, which operates the SCSEP in 40 states, the District of Columbia, and Puerto Rico. Under the grant agreement the FS recruits and enrolls approximately 5,000 economically disadvantaged persons annually to perform part-time community service assignments within the national forest and surrounding communities. Through the SCSEP the vast majority of applicants become self-reliant and independent of welfare program and have upgraded their skills and transition into the regular labor market. The FS will collect information using form FS 1800-21b “Application for Senior Community Service Employment Program.”

Need and Use of the Information: FS will collect the following information: Identification data (name, address, and birth date); eligibility information (number in family, income and signature); applicant's disposition (family income level determination, eligibility determination, community service assignment determination); and other information such as age, sex, education level, ethnic group, social security number, his/her veteran and handicapped position. The information will be used to identify personal data. The information will also be used to provide the administrative office, Department of Labor, data on the program's target attainments. If the FS does not collection the above data from each applying to the SCSEP, participant eligibility determination could not be legally made thereby eliminating the FS as a national program sponsor.

Description of Respondents: Individuals households.

Number of Respondents: 6,500.

Frequency of Responses: Reporting: Other (initial application).

Total Burden Hours: 1,083.

Forest Service

Title: Guidelines for Eligibility and Required Documentation for the Golden Access Passport.

OMB Control Number: 0596-NEW.

Summary of Collection: The Golden Access Passport was created in 1980 by an amendment to the Land and Water Conservation Fund Act (LWCFA) of 1965. A Golden Access Passport is a free, lifetime permit that is issued without charge by the National Park Service, Bureau of Land Management, Bureau of Reclamation, and Fish and Wildlife Service, Department of the Interior, the Forest Service, Department of Agriculture, and the U.S. Army Corps of Engineers, Department of Defense to citizens or persons who are domiciled (permanent residents) in the United States, regardless of age, and who have a medical determination and documentation of blindness or permanent disability. Golden Access Passport may be obtained in person and upon proof of blindness or medically determined permanent disability in accordance with the criteria established in the LWCFA of 1965, as amended. In order to clarify and simplify the process for persons with disabilities to obtain the Golden Access Passport, all of the agencies that issue this free lifetime Passport cooperated in the development of the Guidelines for Eligibility and Required Documentation for the golden Access Passport. The authority for this information collection can be found at 16 U.S.C. 4601-6a(b).

Need and Use of the Information: Each agency will use the guidelines when assisting customers seeking to obtain the Passport. The applicant's document or signed statement is used to verify that the individual is qualified to receive the Golden Access Passport. The documentation must be shown or the statement signed in person to ensure that the person signing the Passport is the person to whom the documentation was issued. If the agencies did not have a process by which to determine that these golden Access Passports are only issued to persons who have been medically determined to be blind or permanently disabled, the agencies would not be able to issue Passports in accordance with the LWCFA requirements.

Description of Respondents: Individuals or households.

Number of Respondents: 59,810.

Frequency of Responses: Reporting: Other (Initial Application).

Total Burden Hours: 4,984.

Ruth Brown,
Departmental Information Collection Clearance Officer.

[FR Doc. 03-32014 Filed 12-30-03; 8:45 am]

BILLING CODE 3410-01-M